DEPARTMENT OF HEALTH AND HUMAN SERVICES

National Institutes of Health

Office of the Director; Notice of Closed Meeting

Pursuant to section 10(d) of the Federal Advisory Committee Act, as amended (5 U.S.C. Appendix 2), notice is hereby given of a meeting of the Advisory Committee to the Director, National Institutes of Health. The meeting will be closed in accordance with the provisions set forth in sections 552b(c)(4) and 552b(9)(c)(6), Title 5 U.S.C. The applications and the discussions could reveal confidential trade secrets or commercial property such as patentable material and personal information concerning individuals associated with the grant applications, the disclosure of which would constitute a clearly unwarranted invasion of personal privacy.

Name of Committee: Advisory Committee to the Director, National Institutes of Health.

Date: September 22, 2004.

Time: 8:45 a.m. to adjournment.

Agenda: To review and evaluate NIH Director's Pioneer Award applications.

Place: National Institutes of Health, Building 1, Bethesda, Maryland 20892, (teleconference).

Contact Person: Shelly Pollard, Coordinator for the Advisory Committee to the Director, National Institutes of Health, Building 31, Room 5B64, Tel: 301/496-0959, Fax: 301/402-0395.

Any interested person may file written comments with the committee by forwarding the statement to the Contact Person listed on this notice. The statement should include the name, address, telephone number and when applicable, the business or professional affiliation of the interested person.

This notice is being published less than 15 days prior to the meeting due to the urgent need to meeting timing limitations imposed by the funding cycle.

Dated: September 21, 2004.
Anna Snouffer,
Deputy Director, Office of Federal Advisory Committee Policy.

[FR Doc. 04-21617 Filed 9-24-04; 8:45 am]

BILLING CODE 4140-01-M